FEDERAL ELECTION COMMISSION

Sunshine Act Meeting

AGENCY: Federal Election Commission.

DATE AND TIME: Tuesday, January 13, 2015 at 10:00 a.m. and its continuation on Thursday January 15, 2015 at the conclusion of the Open Meeting.

PLACE: 999 E Street NW., Washington, DC.

STATUS: This meeting will be closed to the public.

Federal Register Citation of Previous Announcement—80 FR 1030 (January 8, 2015)

This meeting will be continued on February 10, 2015.

* * * * *

PERSON TO CONTACT FOR INFORMATION: Judith Ingram, Press Officer, Telephone: (202) 694-1220.

Shelley E. Garr,
Deputy Secretary of the Commission.

[FR Doc. 2015-00905 Filed 1-15-15; 4:15 pm]

BILLING CODE 6715-01-P